DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of July 9, 2012 through July 13, 2012.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
81,566 | European Touch, E Touch Holding Company, Argus Technical | Milwaukee, WI | May 1, 2011.
81,628 | MX Solar USA LLC | Somerset, NJ | May 17, 2011.
81,685 | Gardner Denver, Thomas Products Division | Sheboygan, WI | September 24, 2011.
81,688 | OSRAM Sylvania, Inc., Consumer Lighting Division, Superior Technical Resources | St. Marys, PA | October 2, 2011.
81,688A | W&W and Sons Contractors, Inc., OSRAM Sylvania, General Lighting, fka Consumer Lighting Division | St. Marys, PA | June 5, 2011.
81,763 | Intelicoat Technologies Image Products S. Hadley, LLC | South Hadley, MA | June 27, 2011.

The following certifications have been issued. The requirements of Section 222(a)(2)(B) (shift in production or services) of the Trade Act have been met.

TA-W No. | Subject firm | Location | Impact date
81,520 | T-Mobile USA, Inc., Call Center | Allentown, PA | April 17, 2011.
81,520A | T-Mobile USA, Inc., Call Center | Fort Lauderdale, FL | April 17, 2011.
81,520B | T-Mobile USA, Inc., Call Center | Frisco, TX | April 17, 2011.
81,520C | T-Mobile USA, Inc., Call Center | Brownsville, TX | April 17, 2011.
81,520D | T-Mobile USA, Inc., Call Center | Lenexa, KS | April 17, 2011.
81,520E | T-Mobile USA, Inc., Call Center | Thornton, CO | April 17, 2011.
81,520F | T-Mobile USA, Inc., Call Center | Redmond, OR | April 17, 2011.
81,647 | Sealed Air Corporation, Premier Recruitment Group | Rochester, NY | May 18, 2011.
81,681 | Diebold Incorporated, Information Technology and Finanical Shared Services | North Canton, OH | April 2, 2012.
81,686 | Brookfield Global Relocation Services, Client Accounting Division, Accountemps and Quad | Fort Washington, PA | June 5, 2011.
81,730 | Market Track, LLC, Market Track Holdings, LLC, Data Entry Group | Chicago, IL | June 15, 2011.
81,733 | Air System Components, Inc., Tomkins Industries, DmDickanson Personnel | El Paso, TX | October 24, 2011.
81,733A | RM Personnel and Select Services, Tomkins Industries, Working on Site at Air System Components | El Paso, TX | June 13, 2011.
81,734 | Ericsson, Inc., Network Operations Center, Convergenz, LLC and APEX Systems, Inc | Albuquerque, NM | June 20, 2011.
81,743 | Emerson Power Transmission, Emerson Electric Co. | Ithaca, NY | May 14, 2012.
81,745 | North Sails Nevada, LLC, 2379 Heybourne Road and 2549 Business Parkway, Aerotek, etc. | Minden, NV | June 22, 2011.
81,746 | Lattice Semiconductor Corporation, Legal Compliance Department | Hillsboro, OR | June 22, 2011.
81,746A | Lattice Semiconductor Corporation, Consumer Design Function | San Jose, CA | June 22, 2011.
81,746B | Lattice Semiconductor Corporation, Research and Development Function | Hillsboro, OR | April 13, 2012.
81,746C | Lattice Semiconductor Corporation, Sales-Customer Service Function | Hillsboro, OR | June 22, 2011.
81,757 | Pro-Dex Astromec, Inc., Pro-Dex, Inc., Westaff Carson City | Carson City, NV | June 25, 2011.
81,760 | EPIC Technologies, LLC | Norwalk, OH | December 23, 2011.
81,766 | Sensata Technologies, Inc., Power Controls Business | Cambridge, MD | May 26, 2012.
81,766A | Experis Manpower Group, Sensata Techologies, Power Controls Business | Cambridge, MD | June 29, 2011.
81,769 | Federal-Mogul Corporation, Vehicle Safey and Protection Division, Kelly Services and AES Staffing | Winchester, VA | June 29, 2011.
81,770 | Hartford Financial Services Group, Inc., Operations/Consumer/NQ Manuel Rating Division | Southington, CT | June 29, 2011.

The following certifications have been issued. The requirements of Section 222(c) (supplier to a firm whose workers are certified eligible to apply for TAA) of the Trade Act have been met.

TA-W No. | Subject firm | Location | Impact date
81,661 | Oryx Advanced Materials, Benchmark Specialized Production Staffing | Fremont, CA | April 25, 2011.
81,713 | Siemens Baltimore Facility, Customer Services Division, Metallurgical Services, Mark F. Winstead | Sparrows Point, MD | June 12, 2011.

The following certifications have been issued. The requirements of Section 222(c) (downstream producer for a firm whose workers are certified eligible to apply for TAA) of the Trade Act have been met.

TA-W No. | Subject firm | Location | Impact date
81,693 | Schlei Dray Line, Inc | Manitowoc, WI | May 29, 2011.

The following certifications have been issued. The requirements of Section 222(f) (firms identified by the International Trade Commission) of the Trade Act have been met.

TA-W No. | Subject firm | Location | Impact date
81,640 | Kaiser Aluminum, Kaiser Aluminum Corporation | Los Angeles, CA | May 19, 2010.
81,642 | C.R. Laurence Company, Inc | Los Angeles, CA | May 19, 2010.

Negative Determinations for Worker Adjustment Assistance

In the following cases, the investigation revealed that the eligibility criteria for worker adjustment assistance have not been met for the reasons specified.

The investigation revealed that the criteria under paragraphs(a)(2)(A) (increased imports) and (a)(2)(B) (shift in production or services to a foreign country) of section 222 have not been met.

TA-W No. | Subject firm | Location | Impact date
81,720 | Federal-Mogul Corporation, Global Aftermarket Division, Home-Based Workers Reporting to this Location | Southfield, MI |

Determinations Terminating Investigations of Petitions for Worker Adjustment Assistance

After notice of the petitions was published in the Federal Register and on the Department's Web site, as required by Section 221 of the Act (19 U.S.C. 2271), the Department initiated investigations of these petitions.

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W No. | Subject firm | Location | Impact date
81,781 | CDI Engineering Corporation | Virginia Beach, VA. |

I hereby certify that the aforementioned determinations were issued during the period of July 9, 2012 through July 13, 2012. These determinations are available on the Department's Web site tradeact/taa/taa search form.cfm under the searchable listing of determinations or by calling the Office of Trade Adjustment Assistance toll free at 888-365-6822.

Dated: July 18, 2012.
Elliott S. Kushner,
Certifying Officer, Office of Trade Adjustment Assistance.

[FR Doc. 2012-18415 Filed 7-27-12; 8:45 am]

BILLING CODE 4510-FN-P